ENVIRONMENTAL PROTECTION AGENCY

40 CFR Part 52

[EPA-R05-OAR-2022-0744; FRL-10682-01-R5]

Air Plan Approval; Illinois; Second Maintenance Plan for 1997 Ozone NAAQS; Jersey County Portion of St. Louis Missouri-Illinois Area

AGENCY: Environmental Protection Agency (EPA).

ACTION: Proposed rule.

SUMMARY: The Environmental Protection Agency (EPA) is proposing to approve, as a revision to the Illinois State Implementation Plan (SIP), the state's plan for maintaining the 1997 ozone National Ambient Air Quality Standard (NAAQS or standard) through 2032 in the St. Louis, MO-IL area. The original St. Louis nonattainment area for the 1997 ozone standard included Jersey, Madison, Monroe, and St. Clair Counties in Illinois and Franklin, Jefferson, St. Charles and St. Louis Counties and St. Louis City in Missouri. The SIP submitted by the Illinois Environmental Protection Agency (IEPA) on August 24, 2022, addresses the second maintenance plan required for Jersey County, Illinois.

DATES: Comments must be received on or before April 13, 2023.

ADDRESSES: Submit your comments, identified by Docket ID No. EPA-R05-OAR-2022-0744 at https://www.regulations.gov, or via email to arra.sarah@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www2.epa.gov/dockets/commenting-epa-dockets.

FOR FURTHER INFORMATION CONTACT: Kathleen D'Agostino, Environmental Scientist, Attainment Planning and Maintenance Section, Air Programs Branch (AR-18J), Environmental Protection Agency, Region 5, 77 West Jackson Boulevard, Chicago, Illinois 60604, (312) 886-1767, dagostino.kathleen@epa.gov. The EPA Region 5 office is open from 8:30 a.m. to 4:30 p.m., Monday through Friday, excluding Federal holidays and facility closures due to COVID-19.

SUPPLEMENTARY INFORMATION: Throughout this document whenever “we,” “us,” or “our” is used, we mean EPA.

I. Summary of EPA's Proposed Action

EPA is proposing to approve, as a revision to the Illinois SIP, an updated 1997 ozone NAAQS maintenance plan for Jersey County in the St. Louis, MO-IL area. The maintenance plan is designed to keep the St, Louis area in attainment of the 1997 ozone NAAQS through 2032.

II. Background

Ground-level ozone is formed when oxides of nitrogen (NOX) and volatile organic compounds (VOC) react in the presence of sunlight. These two pollutants are referred to as ozone precursors. Scientific evidence indicates that adverse public health effects occur following exposure to ozone.

In 1979, under section 109 of the Clean Air Act (CAA), EPA established primary and secondary NAAQS for ozone at 0.12 parts per million (ppm), averaged over a 1-hour period. See 44 FR 8202 (February 8, 1979). On July 18, 1997, EPA revised the primary and secondary NAAQS for ozone to set the acceptable level of ozone in the ambient air at 0.08 ppm, averaged over an 8-hour period. See 62 FR 38856 (July 18, 1997).¹ EPA set the 8-hour ozone NAAQS based on scientific evidence demonstrating that ozone causes adverse health effects at lower concentrations and over longer periods of time than was understood when the pre-existing 1-hour ozone NAAQS was set.

¹ In March 2008, EPA completed another review of the primary and secondary ozone standards and tightened them further by lowering the level for both to 0.075 ppm. 73 FR 16436 (March 27, 2008). Additionally, in October 2015, EPA completed a review of the primary and secondary ozone standards and tightened them by lowering the level for both to 0.70 ppm. 80 FR 65292 (October 26, 2015).

Following promulgation of a new or revised NAAQS, EPA is required by the CAA to designate areas throughout the nation as attaining or not attaining the NAAQS. On April 15, 2004 (69 FR 23857), EPA designated the St. Louis area as nonattainment for the 1997 ozone NAAQS, and the designations became effective on June 15, 2004. Under the CAA, states are also required to adopt and submit SIPs to implement, maintain, and enforce the NAAQS in designated nonattainment areas and throughout the state.

When a nonattainment area has three years of complete, certified air quality data that have been determined to attain the 1997 ozone NAAQS, and the area has met other required criteria described in section 107(d)(3)(E) of the CAA, the

state can submit to EPA a request to be redesignated to attainment, referred to as a “maintenance area”.² One of the criteria for redesignation is to have an approved maintenance plan under CAA section 175A. The maintenance plan must demonstrate that the area will continue to maintain the standard for the period extending 10 years after redesignation, and it must contain such additional measures as necessary to ensure maintenance and such contingency provisions as necessary to assure that violations of the standard will be promptly corrected. At the end of the eighth year after the effective date of the redesignation, the state must also submit a second maintenance plan to ensure ongoing maintenance of the standard for an additional ten years. See CAA section 175A.

² Section 107(d)(3)(E) of the CAA sets out the requirements for redesignation. They include attainment of the NAAQS, full approval of the SIP under section 110(k) of the CAA, determination that improvement in air quality is a result of permanent and enforceable reductions in emissions, demonstration that the state has met all applicable section 110 and part D requirements, and a fully approved maintenance plan under CAA section 175A.

EPA has published long-standing guidance for states on developing maintenance plans.³ The Calcagni Memorandum provides that states may generally demonstrate maintenance by either performing air quality modeling to show that the future mix of sources and emission rates will not cause a violation of the NAAQS or by showing that future emissions of a pollutant and its precursors will not exceed the level of emissions during a year when the area was attaining the NAAQS (i.e., attainment year inventory). See Calcagni Memorandum at 9.

³ “Procedures for Processing Requests to Redesignate Areas to Attainment,” Memorandum from John Calcagni, Director, Air Quality Management Division, September 4, 1992 (the “Calcagni Memorandum”).

On May 26, 2010, IEPA submitted to EPA a request to redesignate the Illinois portion of the St. Louis area to attainment for the 1997 ozone NAAQS.⁴ This submittal included, as a revision to the Illinois SIP, a plan to provide for maintenance of the 1997 ozone NAAQS in the St. Louis area through 2025. EPA approved the maintenance plan for the Illinois portion of the St. Louis area and redesignated the area to attainment for the 1997 ozone NAAQS on June 12, 2012 (77 FR 34819).

⁴ IEPA supplemented this submittal on September 16, 2011.

Under CAA section 175A(b), states must submit a revision to the first maintenance plan eight years after redesignation to provide for maintenance of the NAAQS for ten additional years following the end of the first 10-year period. EPA's final implementation rule for the 2008 ozone NAAQS revoked the 1997 ozone NAAQS and stated that one consequence of revocation was that areas that had been redesignated to attainment (i.e., maintenance areas) for the 1997 standard no longer needed to submit second 10-year maintenance plans under CAA section 175A(b).⁵ However, in South Coast Air Quality Management District v. EPA ⁶ (South Coast II), the D.C. Circuit vacated EPA's interpretation that, because of the revocation of the 1997 ozone standard, second maintenance plans were not required for “orphan maintenance areas,” i.e., areas that had been redesignated to attainment for the 1997 NAAQS and were designated attainment for the 2008 ozone NAAQS. Thus, states with these “orphan maintenance areas” under the 1997 ozone NAAQS must submit maintenance plans for the second maintenance period.

⁵ See 80 FR 12315 (March 6, 2015).

⁶ 882 F.3d 1138 (D.C. Cir. 2018).

When areas were designated under the 2008 ozone NAAQS, Jersey County, Illinois was not included in the St. Louis, MO-IL nonattainment area. Therefore, Jersey County is considered an orphan maintenance area requiring a second maintenance plan. Accordingly, on August 24, 2022, IEPA submitted a second maintenance plan for Jersey County that shows that the St. Louis area is expected to remain in attainment of the 1997 ozone NAAQS through 2032, i.e., through the end of the full 20-year maintenance period.

III. EPA's Evaluation of the Illinois SIP Submittal

A. Second Maintenance Plan

Section 175A of the CAA sets forth the elements of a maintenance plan for areas seeking redesignation from nonattainment to attainment. Under section 175A, the maintenance plan must demonstrate continued attainment of the NAAQS for at least 10 years after the Administrator approves a redesignation to attainment. Eight years after the redesignation, the state must submit a revised maintenance plan which demonstrates that attainment of the NAAQS will continue for an additional 10 years beyond the initial 10-year maintenance period. To address the possibility of future NAAQS violations, the maintenance plan must contain contingency measures, as EPA deems necessary, to assure prompt correction of the future NAAQS violation.

The Calcagni Memorandum provides further guidance on the content of a maintenance plan, explaining that a maintenance plan should address five elements: (1) an attainment emission inventory; (2) a maintenance demonstration; (3) a commitment for continued air quality monitoring; (4) a process for verification of continued attainment; and (5) a contingency plan.

On August 24, 2022, IEPA submitted, as a SIP revision, a plan to provide for maintenance of the 1997 ozone standard in the St. Louis area through 2032, more than 20 years after the effective date of the redesignation to attainment. As discussed below, EPA proposes to find that IEPA's second maintenance plan includes the necessary components and to approve the maintenance plan as a revision to the Illinois SIP.

1. Attainment Inventory

The CAA section 175A maintenance plan approved by EPA for the first 10-year period included an attainment inventory for the St. Louis area that reflected typical summer day VOC and NOX emissions in 2008. In addition, because the St. Louis area continued to monitor attainment of the 1997 ozone NAAQS in 2014, 2014 is an appropriate year to use for an attainment year inventory. IEPA is using the State's previously compiled 2014 summer day emissions inventory as the basis for the attainment inventory presented in Tables 1 and 2, below. Data compiled for this inventory were submitted to EPA and used in the EPA 2014 version 7.0 modeling platform.⁷ These data are derived from the 2014 National Emissions Inventory version 2.

⁷ The inventory documentation for this modeling platform can be found here: https://www.epa.gov/air-emissions-modeling/2014-version-70-platform.

Table 1—St. Louis Area Typical Summer Day VOC Emissions for Attainment Year 2014
[Tons/day (tpd)]
County | Point | Area | On-road | Nonroad | Total
Illinois:
Jersey | 0.03 | 1.22 | 0.52 | 2.10 | 3.87
Madison | 7.52 | 9.41 | 4.85 | 3.86 | 25.64
Monroe | 0.10 | 1.72 | 0.63 | 1.03 | 3.48
St. Clair | 1.76 | 7.93 | 4.63 | 2.58 | 16.90
Total | 9.41 | 20.28 | 10.63 | 9.57 | 49.89
Missouri:
Franklin | 2.08 | 5.80 | 2.57 | 2.91 | 13.36
Jefferson | 1.91 | 5.44 | 4.65 | 2.72 | 14.72
St. Charles | 4.12 | 11.50 | 7.75 | 5.25 | 28.62
St. Louis City | 2.88 | 11.19 | 4.23 | 2.92 | 21.22
St. Louis | 2.87 | 35.88 | 73.21 | 19.61 | 131.57
Total | 13.86 | 69.81 | 92.41 | 33.41 | 209.49
Area total | 23.27 | 90.09 | 103.04 | 42.98 | 259.38

Table 2—St. Louis Area Typical Summer Day NOX Emissions for Attainment Year 2014
[tpd]
County | Point | Area | On-road | Nonroad | Total
Illinois:
Jersey | 0.00 | 0.09 | 1.08 | 2.87 | 4.04
Madison | 21.39 | 0.83 | 13.05 | 9.29 | 44.56
Monroe | 0.48 | 0.15 | 1.62 | 8.01 | 10.26
St. Clair | 1.42 | 0.55 | 12.27 | 7.32 | 21.56
Total | 23.29 | 1.62 | 28.22 | 27.49 | 80.42
Missouri:
Franklin | 21.13 | 0.46 | 8.00 | 5.24 | 34.83
Jefferson | 17.96 | 0.42 | 12.87 | 3.04 | 34.29
St. Charles | 21.05 | 0.89 | 19.68 | 7.40 | 49.02
St. Louis City | 4.78 | 0.93 | 10.92 | 5.23 | 21.86
St. Louis | 16.79 | 3.76 | 118.61 | 17.53 | 156.69
Total | 81.71 | 6.47 | 170.08 | 38.44 | 296.69
Area total | 105.00 | 8.09 | 198.30 | 65.93 | 377.11

2. Maintenance Demonstration

IEPA is demonstrating maintenance through 2032 by showing that future emissions of VOC and NOX for the St. Louis area remain at or below attainment year emission levels. 2032 is an appropriate maintenance year because it is 10 years beyond the first 10-year maintenance period. Jersey County point and area source emissions were projected to 2032 from the U.S. EPA 2011 version 6.3 modeling platform.⁸ The relevant inventory scenario names are “2014fd” and “2028el.” The 2028 scenario was used to support past air quality modeling to support the regional haze program. Since this data set only grew emissions to 2028, IEPA assumed that emissions would keep growing at the same rate out to 2032. Jersey County on-road mobile source emissions for 2013 were calculated using MOVES 2014a using the same inputs for 2014. The vehicle population and vehicle miles traveled were grown from 2014 to 2032 using a growth rate of 1.5% per year.⁹ Jersey County nonroad mobile source emissions, not including aircraft, commercial marine vessels, and locomotives, were calculated using MOVES 2014a. Emissions for aircraft, commercial marine vessels, and locomotives were grown 2% per year.

⁸ The inventory documentation for this platform can be found here: https://www.epa.gov/air-emissions-modeling/2011-version-63-platform.

⁹ MOVES 2014a was the current mobile model when Illinois developed the second maintenance plan and posted it for public comment in June 2019.

For the other counties in the St. Louis area, the emissions for 2032 were assumed to be the same as the 2030 emissions identified in the document “Maintenance Plan for the Illinois Portion of the Metro-East St. Louis Ozone Nonattainment Area for the 2008 8-Hour Ozone Standard (AQPSTR 16-05),” which was submitted as part of the redesignation submittal for the St. Louis area under the 2008 ozone NAAQS. As emissions have been shown to be decreasing, this is a conservative assumption. Emissions for point and area source sectors, as well as nonroad mobile categories not calculated by the MOVES model, were projected to 2030 using data from EPA's Air Emissions Modeling platform (2011v6.2) inventories for years 2011, 2017 and 2025. On-road and nonroad mobile source emissions were calculated for 2020 and 2030 using the MOVES2014a model.

The 2032 summer day emissions inventory for the St. Louis area is summarized in Tables 3 and 4, below. Table 5 documents changes in VOC and NOX emissions in both Jersey County and the entire St. Louis area between 2014 and 2032.

Table 3—St. Louis Area Typical Summer Day VOC Emissions for Maintenance Year 2032
[tpd]
County | Point | Area | On-road | Nonroad | Total
Illinois:
Jersey | 0.03 | 1.18 | 0.18 | 0.49 | 1.88
Madison | 6.75 | 8.90 | 1.79 | 2.64 | 20.08
Monroe | 0.09 | 1.66 | 0.25 | 0.51 | 2.51
St. Clair | 1.69 | 7.49 | 1.72 | 1.40 | 12.84
Total | 8.56 | 19.23 | 3.94 | 5.58 | 37.31
Missouri:
Franklin | 2.52 | 3.36 | 2.40 | 3.31 | 11.59
Jefferson | 1.63 | 7.48 | 4.24 | 3.12 | 16.47
St. Charles | 3.34 | 11.21 | 6.73 | 6.23 | 27.51
St. Louis City | 3.59 | 12.04 | 4.46 | 3.38 | 23.47
St. Louis | 3.50 | 38.68 | 20.17 | 22.99 | 85.34
Total | 14.58 | 72.77 | 38.00 | 39.03 | 164.38
Area total | 23.14 | 92.00 | 41.94 | 44.61 | 201.69

Table 4—St. Louis Area Typical Summer Day NOX Emissions for Maintenance Year 2032
[tpd]
County | Point | Area | On-road | Nonroad | Total
Illinois:
Jersey | 0.00 | 0.09 | 0.27 | 2.86 | 3.22
Madison | 14.57 | 0.82 | 1.79 | 4.30 | 15.11
Monroe | 0.93 | 0.15 | 0.25 | 3.56 | 4.22
St. Clair | 1.43 | 0.54 | 1.72 | 3.45 | 8.73
Total | 16.93 | 18.14 | 4.03 | 14.17 | 31.28
Missouri:
Franklin | 30.92 | 2.20 | 3.22 | 1.97 | 38.31
Jefferson | 27.72 | 0.88 | 2.73 | 2.32 | 33.65
St. Charles | 8.87 | 1.81 | 4.34 | 5.88 | 20.90
St. Louis City | 3.82 | 2.70 | 2.18 | 2.80 | 11.50
St. Louis | 21.75 | 5.44 | 13.10 | 16.93 | 57.22
Total | 93.08 | 13.03 | 25.57 | 29.90 | 161.58
Area total | 110.01 | 14.63 | 32.55 | 44.07 | 201.26

Table 5—Change in Typical Summer Day VOC and NOX Emissions in Jersey County and in the Entire St. Louis Area Between 2014 and 2032
[tpd]
Source category | VOC: 2014 | VOC: 2032 | VOC: Net change (2014-2032) | NOX: 2014 | NOX: 2032 | NOX: Net change (2014-2032)
Jersey County:
Point | 0.03 | 0.03 | 0.00 | 0.00 | 0.00 | 0.00
Area | 1.22 | 1.18 | −0.04 | 0.09 | 0.09 | 0.00
On-road | 0.52 | 0.18 | −0.34 | 1.08 | 0.27 | −0.81
Nonroad | 2.10 | 0.49 | −1.61 | 2.87 | 2.86 | −0.01
Total | 3.87 | 1.88 | −1.99 | 4.04 | 3.22 | −0.82
Entire Area:
Point | 23.27 | 23.14 | −0.13 | 105.00 | 110.01 | 5.01
Area | 90.09 | 92.00 | 1.91 | 8.09 | 14.63 | 6.54
On-road | 103.04 | 41.94 | −61.10 | 198.30 | 32.55 | −165.75
Nonroad | 42.98 | 44.61 | 1.63 | 65.93 | 44.07 | −21.86
Total | 259.38 | 201.69 | −57.69 | 377.11 | 201.26 | −175.85

In summary, the maintenance demonstration for Jersey County shows maintenance of the 1997 ozone standard by providing emissions information to support the demonstration that future emissions of NOX and VOC will remain at or below 2014 emission levels in both Jersey County and the entire St. Louis area when taking into account both future source growth and implementation of future controls. Table 5 shows VOC and NOX emissions in Jersey County are projected to decrease by 1.99 tpd and 0.82 tpd, respectively, between 2014 and 2032. Similarly, VOC and NOX emissions in in the entire area are projected to decrease by 57.69 tpd and 175.85 tpd, respectively, between 2014 and 2032.

3. Continued Air Quality Monitoring

In its submittal, IEPA commits to continue monitoring ozone levels according to an EPA approved monitoring plan, as required to ensure maintenance of the ozone NAAQS. Should changes in the location of an ozone monitor become necessary, IEPA commits to work with EPA to ensure the adequacy of the monitoring network. IEPA remains obligated to meet monitoring requirements and continues to quality assure monitoring data in accordance with 40 CFR part 58, and to enter all data into the Air Quality System in accordance with Federal guidelines.

4. Verification of Continued Attainment

IEPA has the legal authority to enforce and implement the requirements of the maintenance plan for the St. Louis area. This includes the authority to adopt, implement, and enforce any subsequent emission control measures determined to be necessary to correct future ozone attainment problems.

Verification of continued attainment is accomplished through operation of the ambient ozone monitoring network and the periodic update of the area's emissions inventory. IEPA will continue to operate an approved ozone monitoring network in the St. Louis area. There are no plans to discontinue operation of, relocate, or otherwise change the existing ozone monitoring network other than through revisions in the network approved by EPA.

In addition, to track future levels of emissions, IEPA will continue to develop and submit to EPA updated emission inventories for all source categories at least once every three years, consistent with the requirements of 40 CFR part 51, subpart A, and in 40 CFR 51.122. The Consolidated Emissions Reporting Rule (CERR) was promulgated by EPA on June 10, 2002 (67 FR 39602). The CERR was replaced by the Annual Emissions Reporting Requirements on December 17, 2008 (73 FR 76539). IEPA will also continue to implement the annual emissions reporting rule contained in 35 Illinois Administrative Code Part 254.

5. Contingency Plan

Section 175A of the CAA requires that the state adopt a maintenance plan, as a SIP revision, that includes such contingency measures as EPA deems necessary to ensure that the state will promptly correct a violation of the NAAQS that occurs after redesignation of the area to attainment of the NAAQS. The maintenance plan must identify: the contingency measures to be considered and, if needed for maintenance, adopted and implemented; a schedule and procedure for adoption and implementation; and a time limit for action by the state. The state should also identify specific indicators to be used to determine when the contingency measures need to be considered, adopted, and implemented. The maintenance plan must include a commitment that the state will implement all measures with respect to the control of the pollutant that were contained in the SIP before redesignation of the area to attainment in accordance with section 175A(d) of the CAA. See Calcagni Memorandum at 12-13.

As required by section 175A of the CAA, Illinois has adopted a contingency plan for the St. Louis area to address possible future ozone air quality problems. The contingency plan adopted by Illinois has two levels of response, a Level I response and a Level II response.

In IEPA's plan, a Level I response will be triggered when either an annual fourth high monitored value of 0.084 ppm or higher is monitored within the maintenance area, or the NOX or VOC emissions inventories in the Illinois portion of the area increase more than 5% above the levels included in the 2014 emissions inventories. A Level I response will consist of Illinois evaluating air quality or determining if adverse emissions trends are likely to continue. Illinois will determine what and where controls may be required as well as the level of emissions reductions needed to avoid a violation of the NAAQS. The study must be completed within 9 months, with adoption of necessary control measures within 18 months of the determination.

In IEPA's plan, a Level II response is triggered by a violation of the ozone NAAQS at any monitoring site in the St. Louis area. In the event that a Level II response is triggered, within 6 months, IEPA will conduct an analysis to determine appropriate measures to address the cause of the violation. Selected measures will be implemented within 18 months of the violation.

IEPA included the following list of potential contingency measures in its maintenance plan:

1. NOX reasonably available control technology;

2. National Emission Standards for Hazardous Air Pollutants risk and technology review: petroleum refineries 40 CFR part 63, subparts CC and UUU;

3. New Source Performance Standards—petroleum refineries 40 CFR part 60, subpart Ja;

4. Conversion of coal-fired Electric Generating Units to natural gas and from baseload units to intermittent units;

5. Broader geographic applicability of existing measures;

6. Oil and gas sector emissions guidelines;

7. Implementation of OTC model rules for above ground storage tanks;

8. Continued phasing in of 2017 light-duty vehicle Green House Gas (GHG) and corporate average fuel economy standards;

9. Tier 3 vehicle emissions and fuel economy standards;

10. Mobile source air toxics rule;

11. High-enhanced Vehicle Emissions Inspection and Maintenance (On-Board Diagnostic II);

12. Federal railroad/locomotive standards;

13. Federal commercial marine vessel engine standards;

14. Heavy-duty vehicle GHG rules;

15. Regulations on the sale of aftermarket catalytic converters;

16. Standards and limitations for organic material emissions for area sources (consumer and commercial products and architectural and industrial maintenance coatings rule);

17. Current California commercial and consumer products—aerosol adhesive coatings, dual purpose air freshener/disinfectants, etc.

To qualify as a contingency measure, emissions reductions from that measure must not be factored into the emissions projections used in the maintenance plan.

EPA has concluded that Illinois' maintenance plan adequately addresses the five basic components of a maintenance plan: an attainment emission inventory, a maintenance demonstration, a commitment for continued air quality monitoring, a process for verification of continued attainment, and a contingency plan. Thus, EPA proposes to find that the maintenance plan SIP revision submitted by IEPA for the St. Louis area meets the requirements of section 175A of the CAA.

B. Transportation Conformity

Transportation conformity is required by section 176(c) of the CAA. Conformity to a SIP means that transportation activities will not produce new air quality violations, worsen existing violations, or delay timely attainment of the NAAQS (CAA section 176(c)(1)(B)). EPA's conformity rule at 40 CFR part 93 requires that transportation plans, programs, and projects conform to SIPs and establish the criteria and procedures for determining whether they conform. The conformity rule generally requires a demonstration that emissions from the Regional Transportation Plan and the Transportation Improvement Program (TIP) are consistent with the motor vehicle emissions budget (Budget) contained in the control strategy SIP revision or maintenance plan (40 CFR 93.101, 93.118, and 93.124). A Budget is defined as “that portion of the total allowable emissions defined in the submitted or approved control strategy implementation plan revision or maintenance plan for a certain date for the purpose of meeting reasonable further progress milestones or demonstrating attainment or maintenance of the NAAQS, for any criteria pollutant or its precursors, allocated to highway and transit vehicle use and emissions” (40 CFR 93.101).

However, the South Coast II court decision upheld EPA's revocation of the 1997 ozone NAAQS, which was effective on April 6, 2015. EPA's current transportation conformity regulation requires a regional emissions analysis only during the time period beginning one year after a nonattainment designation for a particular NAAQS until the effective date of revocation of that NAAQS (40 CFR 93.109(c)). Therefore, pursuant to the conformity regulation, a regional emissions analysis using Budgets is not required for conformity determinations for the 1997 ozone NAAQS because that NAAQS has been revoked (80 FR 12264). As no regional emissions analysis is required for the St. Louis area for the 1997 ozone NAAQS, transportation conformity for the 1997 ozone NAAQS can be demonstrated for transportation plans and TIPs by showing that the remaining criteria contained in Table 1 in 40 CFR 93.109, and 40 CFR 93.108 have been met. As noted previously, EPA is proposing to find that the projected emissions inventory is consistent with maintenance of the 1997 ozone standard.

IV. What action is EPA taking?

Under sections 110(k) and 175A of the CAA and for the reasons set forth above, and based on IEPA's representations and commitments set forth above, EPA is proposing to approve the Jersey County second maintenance plan for the 1997 ozone NAAQS, submitted by IEPA on August 24, 2022, as a revision to the Illinois SIP. The second maintenance plan is designed to keep the St. Louis area in attainment of the 1997 ozone NAAQS through 2032.

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen oxides, Ozone, Volatile organic compounds.

Dated: March 9, 2023.
Debra Shore,
Regional Administrator, Region 5.

[FR Doc. 2023-05175 Filed 3-13-23; 8:45 am]

BILLING CODE 6560-50-P